DEPARTMENT OF HEALTH AND HUMAN SERVICES

Health Resources and Services Administration

Final Notice on Increasing Income Levels Used To Identify a “Low-Income” Family and Announcement of New Annual “Low-Income” Levels for Various Health Professions and Nursing Programs Included in Titles VII and VIII of the Public Health Service Act

AGENCY: Health Resources and Services Administration, HHS.

ACTION: Notice.

SUMMARY: This notice provides the Department's response to comments on increasing low-income levels and announces the new “low-income” levels for various programs included in titles VII and VIII of the Public Health Service (PHS) Act, which use the U.S. Bureau of the Census “low-income” levels to determine eligibility for program participation. The Department periodically publishes in the Federal Register low-income levels used to determine eligibility for grants and cooperative agreements to institutions providing training for (1) disadvantaged individuals, (2) individuals from a disadvantaged background, or (3) individuals from “low-income” families.

SUPPLEMENTARY INFORMATION: This notice announces the proposed increase in income levels intended for use in determining eligibility for participation in the following programs:

Advanced Education Nursing (section 811)

Allied Health Special Projects (section 755)

Basic Nurse Education and Practice (section 831)

Dental Public Health (section 768)

Faculty Loan Repayment and Minority Faculty Fellowship Program (section 738)

General and Pediatric Dentistry (section 747)

Health Administration Traineeships and Special Projects (section 769)

Health Careers Opportunity Program (section 739)

Loans to Disadvantaged Students (section 724)

Physician Assistant Training (section 747)

Primary Care Residency Training (section 747)

Public Health Traineeships (section 767)

Quentin N. Burdick Program for Rural Interdisciplinary Training (section 754)

Residency Training in Preventive Medicine (section 768)

Scholarships for Disadvantaged Students (section 737)

Public Health Training Centers (section 766)

Nursing Workforce Diversity (section 821)

These programs generally award grants to accredited schools of medicine, osteopathic medicine, public health, dentistry, veterinary medicine, optometry, pharmacy, allied health, podiatric medicine, nursing, chiropractic, public or private nonprofit schools which offer graduate programs in behavioral health and mental health practice, and other public or private nonprofit health or education entities to assist the disadvantaged to enter and graduate from health professions and nursing schools. Some programs provide for the repayment of health professions or nursing education loans for disadvantaged students.

Response to Comments

The Department published a notice in the Federal Register on March 30, 2001 (66 FR 17433) requesting public comments on increasing income levels used to identify a “low-income” family for the purpose of providing training in the various health professions and nursing programs included in titles VII and VIII of the PHS Act. The Department received five letters. Each commenter supported the new formula that increases income levels used to identify a “low-income” family.

Low-Income Levels

The Secretary defines a “low-income” family for programs included in titles VII and VIII of the PHS Act as having an annual income that does not exceed 200 percent of the Department's poverty guidelines. The Department's poverty guidelines are based on poverty thresholds published by the U.S. Bureau of the Census, adjusted annually for changes in the Consumer Price Index.

The Secretary annually adjusts the low-income levels based on the Department's poverty guidelines and makes them available to persons responsible for administering the applicable programs. The following income figures will be used for health professions and nursing grant applications requesting FY 2002 funding.

Size of parent's family ¹ | Income level²
1 | $17,180
2 | 23,220
3 | 29,260
4 | 35,300
5 | 41,340
6 | 47,380
7 | 53,420
8 | 59,460
¹ Includes only dependents listed on Federal Income tax forms.
² Adjusted gross income for calendar year 2000.

Dated: June 7, 2001.
Elizabeth M. Duke,
Acting Administrator.

[FR Doc. 01-15199 Filed 6-15-01; 8:45 am]

BILLING CODE 4160-15-P